DEPARTMENT OF COMMERCE

International Trade Administration

[A-489-824]

Heavy Walled Rectangular Welded Carbon Steel Pipes and Tubes From Turkey: Rescission of Antidumping Duty Administrative Review; 2018-2019

AGENCY: Enforcement and Compliance, International Trade Administration, Department of Commerce.

SUMMARY: The Department of Commerce (Commerce) is rescinding the administrative review of the antidumping duty order on heavy walled rectangular welded carbon steel pipes and tubes (HWR pipes and tubes) from the Republic of Turkey (Turkey) for the period September 1, 2018, through August 31, 2019.

DATES: Applicable February 27, 2020.

FOR FURTHER INFORMATION CONTACT: William Horn or Alexis Cherry, AD/CVD Operations, Office VIII, Enforcement and Compliance, International Trade Administration, U.S. Department of Commerce, 1401 Constitution Avenue NW, Washington, DC 20230; Telephone: (202) 482-4868 or (202) 482-0607, respectively.

SUPPLEMENTARY INFORMATION:

Background

On September 3, 2019, Commerce published a notice of opportunity to request an administrative review of the antidumping duty order on HWR pipes and tubes from Turkey for the period September 1, 2018, through August 31, 2019.¹ On September 30, 2019, the petitioner ² filed a timely request for review with respect to nine companies.³ Based on this request, on November 12, 2019, in accordance with section 751(a) of the Tariff Act of 1930, as amended (the Act), and 19 CFR 351.213(b), Commerce published in the Federal Register a notice of initiation of an administrative review covering the period September 1, 2018, through August 31, 2019.⁴ On February 10, 2020, the petitioner submitted a timely request to withdraw its request for administrative review of the antidumping duty order on HWR pipes and tubes from Turkey for all nine companies.⁵

¹ See Antidumping or Countervailing Duty Order, Finding, or Suspended Investigation; Opportunity to Request Administrative Review, 84 FR 45949 (September 3, 2019).

² The petitioner is Nucor Tubular Products, Inc. See Petitioner's Letter, “Heavy Walled Rectangular Welded Carbon Steel Pipes and Tubes from Turkey: Amended Entry of Appearance,” dated January 16, 2020.

³ See Petitioner's Letter, “Heavy Walled Rectangular Welded Carbon Steel Pipes and Tubes from Turkey: Request for Administrative Review,” dated September 30, 2019.

⁴ See Initiation of Antidumping and Countervailing Duty Administrative Reviews, 84 FR 61011 (November 12, 2019); see also Initiation of Antidumping and Countervailing Duty Administrative Reviews, 84 FR 67712 (December 11, 2019) (collectively, Initiation Notices).

⁵ See Petitioner's Letter, “Heavy Walled Rectangular Welded Carbon Steel Pipes and Tubes from Turkey: Withdrawal of Request for Administrative Review” dated February 10, 2020.

Rescission of Review

Pursuant to 19 CFR 351.213(d)(1), Commerce will rescind an administrative review, in whole or in part, if the parties that requested the review withdraw the request within 90 days of the date of publication of notice of initiation of the requested review. As noted above, the petitioner fully withdrew its review request by the 90-day deadline, and no other party requested an administrative review of the antidumping duty order. As such, Commerce is in receipt of a timely request for withdrawal of this administrative review with respect to all companies listed in the Initiation Notices. Accordingly, we are rescinding the administrative review of the antidumping duty order on HWR pipes and tubes from Turkey for the period September 1, 2018, through August 31, 2019, in its entirety.

Assessment

Commerce will instruct U.S. Customs and Border Protection (CBP) to assess antidumping duties on all appropriate entries of HWR pipes and tubes from Turkey at rates equal to the cash deposit of estimated antidumping duties required at the time of entry, or withdrawal from warehouse, for consumption, in accordance with 19 CFR 351.212(c)(1)(i). Commerce intends to issue appropriate assessment instructions to CBP 15 days after the publication of this notice in the Federal Register.

Notification to Importers

This notice serves as a final reminder to importers of their responsibility under 19 CFR 351.402(f)(2) to file a certificate regarding the reimbursement of antidumping and/or countervailing duties prior to liquidation of the relevant entries during this review period. Failure to comply with this requirement could result in Commerce's presumption that reimbursement of the antidumping and/or countervailing duties occurred and the subsequent assessment of doubled antidumping duties.

Notification Regarding Administrative Protective Order

This notice serves as a final reminder to parties subject to administrative protective order (APO) of their responsibility concerning the return or destruction of proprietary information disclosed under APO in accordance with 19 CFR 351.305, which continues to govern business proprietary information in this segment of the proceeding. Timely written notification of the return/destruction of APO materials or conversion to judicial protective order is hereby requested. Failure to comply with the regulations and the terms of an APO is a sanctionable violation.

This notice is issued and published in accordance with section 751(a)(1) and 777(i)(1) of the Act and 19 CFR 351.213(d)(4).

Dated: February 21, 2020.
James Maeder,
Deputy Assistant Secretary for Antidumping and Countervailing Duty Operations.

[FR Doc. 2020-04005 Filed 2-26-20; 8:45 am]

BILLING CODE 3510-DS-P